DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Administrative Reporting Form (ARF) for the Cooperative Agreement to Study Women with Alcohol, Drug Abuse, and Mental Disorders (ADM) Who Have Histories of Violence—New—The Women, ADM Disorders, and Violence Study is funded by SAMHSA's Center for Substance Abuse Treatment (CSAT), Center for Substance Abuse Prevention (CSAP), and Center for Mental Health Services (CMHS) to produce knowledge on the development and effectiveness of integrated services for women with co-occurring mental health and substance abuse disorders who are victims of violence. Fourteen sites are funded in Phase I from across the country, and ten sites are expected to be funded in Phase II. During Phase I of the study (2 years), sites are expected to develop integrated service models. In Phase II, sites that successfully reapply will test their interventions in a multi-site outcome study contrasting comprehensive, integrated, trauma-specific and Consumer/Survivor/Recovering Person (C/S/R) involved services to services as usual.

A process evaluation occurs through both phases of the study with the goals of (1) documenting the development of integrated service systems across all sites, (2) feeding information back to each site to help site staff improve their project, and (3) describing the service systems which intervention and control groups are exposed to at each of the sites so that meaningful comparisons of outcomes can be made.

The Administrative Reporting Form (ARF) is a program monitoring instrument which is to be completed jointly by the project director, project staff members, and directors of participating organizations at each study site annually as part of the process evaluation data collection. The ARF collects information about the staffing and governance of each project, project accomplishments in the previous year, and specific project components. Like other periodic progress reports, the ARF focuses on the reporting of organizational and institutional information. No individual information or opinions are solicited or appropriate for inclusion in the ARF.

Information collected with the ARF will be used in three ways, corresponding to the three goals of the process evaluation listed above. First, evaluators will use information from the ARF to describe the process of project implementation at each of the study sites. This information will ultimately contribute to “how-to” knowledge products for communities attempting to integrate services. Second, site visiting teams will use information from the ARF in their assessments of the sites and will make recommendations to each site of how the site can improve its project. Third, descriptive information from the ARF will be used to characterize each site's intervention in terms of the players involved, the services provided, the manner in which those services are integrated, and the manner in which C/S/R persons are involved. These characterizations will inform the interpretation of the client-level data in the outcome study.

The estimated annualized burden for these reporting requirements is summarized below.

Respondent type | Number of respondents | Responses/ respondent | Burden/ response (hours) | Total burden hours
Project Directors | 10 | 1 | 10 | 100
Project Staff Members | 20 | 1 | 10 | 200
Participating Organization Directors | 80 | 1 | .50 | 40
Total | 110 |  |  | 340

Send comments to Nancy Pearce, SAMHSA Reports Clearance Officer, Room 16-105, Parklawn Building, 5600 Fishers Lane, Rockville, MD 20857. Written comments should be received within 60 days of this notice.

Dated: April 17, 2000.
Richard Kopanda,
Executive Officer, SAMHSA.

[FR Doc. 00-10084 Filed 4-21-00; 8:45 am]

BILLING CODE 4162-20-P